DEPARTMENT OF TRANSPORTATION

Coast Guard

Federal Highway Administration

Woodrow Wilson Bridge; Potomac River, District of Columbia and Prince George's County, MD

AGENCY: Federal Highway Administration, Coast Guard, DOT.

ACTION: Notice of public hearings; correction.

SUMMARY: This document contains corrections to the notice of public hearings which was published January 6, 2000 (65 FR 801). The notice announced the dates and locations of two public hearings to receive information concerning the environmental and navigational impacts of the replacement of the Woodrow Wilson Bridge, but the notice did not contain the snow dates for these meetings.

DATES: This correction is effective on February 7, 2000.

FOR FURTHER INFORMATION CONTACT: Mr. John Gerner, Project Manager (FHWA), Woodrow Wilson Bridge Center, 1800 Duke Street, Suite 200, Alexandria, Virginia 22314 (703 519-9800); Mr. N.E. Mpras, Chief, Office of Bridge Administration, Commandant (G-OPT), U.S. Coast Guard, 2100 Second Street, SW, Washington, DC 20593 (202 267-0368); or Ms. Ann Deaton, Chief, Bridge Administration Branch, Fifth Coast Guard District, Federal Building, 431 Crawford Street, Portsmouth, Virginia 23704-5004 (757 398-6222).

SUPPLEMENTARY INFORMATION:

Need for Correction

The Federal Highway Administration and the Coast Guard published a document in the Federal Register of January 6, 2000 (65 FR 801), which announced the dates and location of two public hearings to receive information concerning the environmental and navigational impacts of the replacements of the Woodrow Wilson Bridge. That document failed to publish alternative snow dates for these meetings. This document corrects that oversight.

In notice FR Doc. 00-258 published on January 6, 2000 (65 FR 801), make the following corrections: On page 801, second column, under DATES: correct the first sentence to read “The hearing will start 7 p.m. on Tuesday, February 8, (snow date February 15) and Thursday, February 10, 2000, (snow date February 16) and display materials will be available beginning at 5:30 p.m. on these dates.”

Dated: February 2, 2000.
Terry M. Cross,
Rear Admiral, U.S. Coast Guard Director of Operations Policy.

[FR Doc. 00-2694 Filed 2-4-00; 8:45 am]

BILLING CODE 4910-22-M